NATIONAL AERONAUTICS AND SPACE ADMINISTRATION

[Notice 03-029]

NASA Advisory Council; Meeting

AGENCY: National Aeronautics and Space Administration (NASA).

ACTION: Notice of meeting.

SUMMARY: In accordance with the Federal Advisory Committee Act, Public Law 92-463, as amended, the National Aeronautics and Space Administration announces an open meeting of the NASA Advisory Council (NAC).

DATES: Wednesday, March 19, 2003, 8:30 a.m. to 2:45 p.m; and Thursday, March 20, 2003, 8:30 a.m. to 12:45 p.m.

ADDRESSES: John C. Stennis Space Center, NASA, Building 1005, Conference Room, Stennis Space Center, MS 39529-6000.

FOR FURTHER INFORMATION CONTACT: Ms. Kathy Dakon, Code IC, National Aeronautics and Space Administration, Washington, DC 20546-0001, 202/358-0732.

SUPPLEMENTARY INFORMATION: The meeting will be open to the public up to the seating capacity of the room. Proceedings of the NAC will be shown live via video feed in the overflow Room 107, Building 1100. The agenda for the meeting is as follows:

• Flight of Columbia.

• NASA Planning for Orbital Space Plane.

• NASA's Earth Science Program.

• NASA's Education Initiative.

• ISS communications strategy.

• Committee Reports.

• Discussion of Findings and Recommendations.

Attendees should report to Building 3101, South Reception Center, Stennis Space Center, where they will be asked to comply with NASA security requirements, including the presentation of a valid picture ID before receiving an access badge. Foreign nationals attending this meeting will be required to provide the following information: full name; gender; date/place of birth; citizenship; greencard/visa information (number, type, expiration date); passport information (number, country, expiration date); employer/affiliation information (name of institution, address, country, phone); title/position of visitor. To expedite admittance, attendees can provide identifying information in advance by contacting NASA Stennis Space Center Security Office via e-mail at SSC.Security.Office@ssc.nasa.gov or by telephone at 228-688-3580. Visitors will not be permitted to drive on Stennis Space Center; however, NASA will provide attendees with transportation from the South Reception Center to the NAC meeting. Visitors will be escorted at all times. The remote location of Stennis Space Center makes leaving the Center for lunch impractical, so visitors are encouraged to bring their lunch. It is imperative that the meeting be held on these dates to accommodate the scheduling priorities of the key participants.

June W. Edwards
Advisory Committee Management Officer, National Aeronautics and Space Administration.

[FR Doc. 03-5639 Filed 3-7-03; 8:45 am]

BILLING CODE 7510-01-P